DEPARTMENT OF THE TREASURY

Submission for OMB Review; Comment Request

October 14, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 21, 2005 to be assured of consideration.

Financial Management Service

OMB Number: 1510-0057.

Type of Review: Extension.

Title: Annual Letters—Certificate of Authority (A) and Admitted Reinsurer (B).

Description: Annual letters sent to insurance companies providing surety bonds to protect the U.S. or companies providing reinsurance to the U.S. Information is needed for renewal of certified companies and their underwriting limitations and of admitted reinsurers.

Respondents: Business or other for-profit.

Estimated Total Burden Hours: 13,674 hour.

Clearance Officer: Jiovannah Diggs (202) 874-7662, Financial Management Service, Room 144, 3700 East West Highway, Hyattsville, MD 20782.

OMB Reviewer: Alexander T. Hunt (202) 395-7316, Office of Management and Budget, Room 10235, New Executive Office Building, Washington, DC 20503.

Michael A. Robinson,
Treasury PRA Clearance Officer.

[FR Doc. 05-20955 Filed 10-19-05; 8:45 am]

BILLING CODE 4810-35-P